FEDERAL COMMUNICATIONS COMMISSION

47 CFR Parts 1 and 2

[ET Docket Nos. 03-137, 13-84, 19-226; DA 21-363; FR ID 20760]

Human Exposure to Radiofrequency Electromagnetic Fields and Reassessment of FCC Radiofrequency Exposure Limits and Policies

AGENCY: Federal Communications Commission.

ACTION: Final rule; announcement of effective date.

SUMMARY: In this document, the Commission announces that the Office of Management and Budget (OMB) has approved, for a period of three years, the information collection requirements associated with the Commission's RF Safety Rulemaking Second Report and Order (Order). This document is consistent with the Order, which stated that the Commission would publish a document in the Federal Register announcing the effective date of those rules.

DATES: The final rule amending §§ 1.1307, 2.1091, and 2.1093 (amendatory instructions 2, 7, and 8), published at 85 FR 18131, April 1, 2020, delayed indefinitely at 85 FR 33578, June 2, 2020, are effective May 3, 2021.

FOR FURTHER INFORMATION CONTACT: Martin Doczkat, Office of Engineering and Technology Bureau, at (202) 418-2435, or email: Martin.Doczkat@fcc.gov.

SUPPLEMENTARY INFORMATION: This document announces that, on March 1, 2021 OMB approved, for a period of three years, the information collection requirements relating to the Radiofrequency “RF” Exposure Evaluation rules contained in the Commission's Order, FCC 19-126, published at 85 FR 33578, June 2, 2020. The OMB Control Numbers are 3060-0004 and 3060-0057. The Commission publishes this document as an announcement of the effective date of the rules. If you have any comments on the burden estimates listed below, or how the Commission can improve the collections and reduce any burdens caused thereby, please contact Nicole Ongele, Federal Communications Commission, 45 L Street NE, Washington, DC 20554. Please include the OMB Control Numbers, 3060-0004 and 3060-0057, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 1, 2021, for the information collection requirements contained in the modifications to the Commission's rules in 47 CFR parts 1 and 2.

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0004 and 3060-0057.

The foregoing notice is required by the Paperwork Reduction Act of 1995, Public Law 104-13, October 1, 1995, and 44 U.S.C. 3507.

The total annual reporting burdens and costs for the respondents are as follows:

OMB Control Number: 3060-0004.

OMB Approval Date: March 1, 2021.

OMB Expiration Date: March 31, 2024.

Title: Sections 1.1307 and 1.1311, Guidelines for Evaluating the Environmental Effects of Radiofrequency.

Form Number: N/A.

Respondents: Business or other for-profit; Not-for-profit institutions, Individuals or households, State, Local or Tribal Government.

Number of Respondents and Responses: 335,441 respondents; 335,441 responses.

Estimated Time per Response: 5 minutes (0.0833 hours)—20 hours.

Frequency of Response: On occasion reporting requirements; Recordkeeping requirements and third party disclosure requirement.

Obligation to Respond: Required to obtain or retain benefits. Statutory authority for this information collection is contained in 47 U.S.C. 154(i), 302, 303, 303(r), and 307.

Total Annual Burden: 41,997 hours.

Total Annual Cost: $2,933,431.

Nature and Extent of Confidentiality: Minimal exemption from the Freedom of Information Act (FOIA) under 5 U.S.C. 552(b)(4) and FCC rules under 47 CFR 0.457(d) is granted for trade secrets and privileged or confidential commercial or financial information, which may be submitted to the Commission as part of the documentation of test results. No other assurances of confidentiality are provided to respondents.

Privacy Act Impact Assessment: No impact(s).

Needs and Uses: On November 27, 2019, the Commission adopted the RF Second Report and Order, ET Docket 03-137, 13-84 and 19-226, FCC 19-126, which involves updates to 47 CFR part 1—Actions that may have a significant environmental effect, for which Environmental Assessments (EA) must be prepared. The Second Report and Order included amendments to rule section 1.1307 requiring approval by OMB under the Paperwork Reduction Act. Revisions to the associated information collection effected by the amendments to rule section 1.1307 are reported herein. Accordingly, 47 CFR 1.1307 was amended to read as shown below. These rules will become effective on May 3, 2021.

The Second Report and Order also provided a two-year period for existing licensees to ensure that they are in compliance with the new rules. The Commission confirmed that this period begins upon the effective date of the rules. It further stated that new facilities and operations (e.g., broadcast facilities and wireless base stations) will be subject to compliance with the new rules upon the effective date of the rules. “New facilities” means facilities authorized on a site-specific basis on or after the effective date of the new rules or, for facilities deployed and operating under existing license authorization or rule part (such as a geographic area license or unlicensed or licensed by rule), facilities whose construction and operation is completed on or after that date. A facility will still be “new” for these purposes even if it is located on an existing, registered antenna structure. In addition, any facility or operation that is modified in a way that could affect RF exposure after the effective date of the rules also must comply with the new rules no later than the time at which it is modified.

All other licensees and operators of existing facilities and operations will have two years from May 3, 2021 to ensure that they are in compliance with the new rules. This includes parties whose licenses are renewed during the two-year period and those who make modifications that would not affect RF exposure (such as administrative updates). These parties will have to determine whether any of their existing facilities and operations that were previously excluded under the old rules qualify for an exemption under the new rules. If they do not qualify for an exemption, they must perform an evaluation. Facilities and operations that require mitigation must come into compliance with the new, detailed requirements for signage, access control, etc. While these parties may rely upon their compliance with the rules as they existed prior to the RF Report and Order during the two-year period, they must comply with the new rules no later than the end of the two-year period.

OMB Control Number: 3060-0057.

OMB Approval Date: March 1, 2021.

OMB Expiration Date: March 31, 2024.

Title: Application for Equipment Authorization.

Form Number: FCC Form 731.

Respondents: Business or other for-profit.

Number of Respondents and Responses: 11,305 respondents; 24,873 responses.

Estimated Time per Response: 8.11 hours (rounded).

Frequency of Response: On occasion reporting requirements; and third party disclosure requirement.

Obligation to Respond: Required to obtain or retain benefits. Statutory authority for this collection of information is contained in 47 U.S.C. 154(i), 301, 302, 303(e), 303(f) and 303(r).

Total Annual Burden: 201,603 hours.

Total Annual Cost: $50,155,140. Nature and Extent of Confidentiality: Minimal exemption from the Freedom of Information Act (FOIA) under 5 U.S.C. 552(b)(4) and FCC rules under 47 CFR 0.457(d) is granted for trade secrets which may be submitted as attachments to the application FCC Form 731. No other assurances of confidentiality are provided to respondents.

Privacy Act Impact Assessment: Yes. The personally identifiable information (PII) in this information collection is covered by a Privacy Impact Assessment (PIA), Equipment Authorizations Records and Files Information System. It is posted at: https://www.fcc.gov/general/privacy-act-information#pia.

Needs and Uses: On November 27, 2019, the Commission adopted the RF Second Report and Order, ET Docket 03-137, 13-84 and 19-226, FCC 19-126, which involves updates to 47 CFR part 2—Radiofrequency (RF) Exposure Evaluation. The Second Report and Order included amendments to rule sections 2.1091 and 2.1093 requiring approval by OMB under the Paperwork Reduction Act. Revisions to the associated information collection effected by amendments to rule sections 2.1091 and 2.1093 are reported herein. Accordingly, 47 CFR 2.1091 was amended by revising paragraphs (b), (c), (d)(1), and (d)(2) and 47 CFR 2.1093 was amended by revising paragraphs (b), (c) and (d) to read as set forth below. These rules will become effective on May 3, 2021.

With respect to the two-year period provided by the Second Report and Order for existing licensees to ensure that they are in compliance with the new rules, the Commission stated that, for transmitting equipment, parties may continue to rely upon their compliance with the rules as they existed prior to the RF Report and Order as long as certified equipment is not modified in a way that could affect RF exposure; it confirmed that a two-year review period is not needed for such equipment. Certification applications for new and modified equipment must follow the Commission's equipment authorization procedures that are currently in effect.

Federal Communications Commission.
Marlene Dortch,
Secretary, Office of the Secretary.

[FR Doc. 2021-07720 Filed 4-19-21; 8:45 am]

BILLING CODE 6712-01-P